DEPARTMENT OF TRANSPORTATION

Federal Aviation Administration

14 CFR Parts 36, 43, 45, 48, 89, 91, 107, 108, 119, 133, 135, 137, and 146

[Docket No. FAA-2025-1908; Notice No. 25-07C]

RIN 2120-AL82

Normalizing Unmanned Aircraft Systems Beyond Visual Line of Sight Operations; Reopening of Comment Period; Denial of Extension

AGENCY: Federal Aviation Administration (FAA), Department of Transportation (DOT).

ACTION: Notice of proposed rulemaking (NPRM); Reopening of comment period; Denial of extension.

SUMMARY: This action denies requests for extension of the reopening of the comment period for the notice of proposed rulemaking (NPRM) titled “Normalizing Unmanned Aircraft Systems Beyond Visual Line of Sight Operations” that was published in the Federal Register on January 28, 2026.

FOR FURTHER INFORMATION CONTACT: Michelle Ferritto, ARM-100, Federal Aviation Administration, 800 Independence Avenue SW, Washington, DC 20592; Phone: (844) 359-6982; Email: 9F-AA-UAS-BVLOS-Rule@faa.gov.

SUPPLEMENTARY INFORMATION: On August 7, 2025, the Federal Aviation Administration (FAA) and the Transportation Security Administration (TSA) published a notice of proposed rulemaking (NPRM) titled “Normalizing Unmanned Aircraft Systems Beyond Visual Line of Sight Operations” in the Federal Register (90 FR 38212; Notice No. 25-07). In that document, FAA proposed performance-based regulations to enable the design and operation of unmanned aircraft systems (UAS) mostly at low altitudes beyond visual line of sight (BVLOS) and for third-party services that support these operations including UAS Traffic Management. The comment period for the NPRM closed on October 6, 2025.

During the comment period that closed on October 2025, FAA received significant comments on its proposals related to right-of-way rules, Automatic Dependent Surveillance-Broadcast (ADS-B) Out, electronic conspicuity, and detect-and-avoid. Noting the substantial interest in, and comment on, these policies, FAA published a notice to reopen the NPRM comment period in the Federal Register on January 28, 2026 (91 FR 3695; Notice No. 25-07B). The notice asks seven questions to solicit comments limited to electronic conspicuity and right-of-way to ensure FAA fully understands these comments and the relevant policy implications.

Denial of Extension of Reopened Comment Period

On January 31, 2026, FAA received a request for extension of the reopened comment period from James E. Whedbee, “until February 28, 2026, or such time thereafter as the Administrator deems appropriate is in the public interest.” ¹ FAA has considered and hereby denies this request.

¹ Comment from James E. Whedbee, Docket FAA-2025-1908-3170 (Jan. 31, 2026).

The commenter asserted that topics of the questions asked by the FAA are sufficiently complex to warrant a thoughtful response that may require more time than the reopened comment period permits. While the topics of the questions are complex, FAA asserts that the reopened comment period provides sufficient opportunity for interested persons to provide feedback on the limited topics given they are topics that were already broached in the NPRM. During the initial 60-day comment period, FAA received approximately 3,100 comments on the totality of the rule many of which referenced the topics on which FAA has solicited additional comment. Noting that, FAA finds that 14 days is sufficient to obtain comment on the limited topics described in the January 28, 2026, notice.

The commenter also asserted an extension should be granted because a lapse in funding impacting the Department of Transportation has interrupted the reopened comment period. FAA disagrees as the lapse in funding does not impact the ability for commenters to review the NPRM, the request for comments, or to submit comments. Further, the commenter asserted the reopened comment period should be extended because other federal agencies impacted by the partial lapse in funding would miss their opportunity to comment. FAA disagrees with this assertion as other federal agencies have the opportunity to review the final rule and provide comments during the interagency coordination process handled by the Office of Information and Regulatory Affairs pursuant to E.O. 12866 for significant rulemakings, a process that is independent of the notice and comment process under the Administrative Procedure Act.²

² See 5 U.S.C. 553(c) (summary of notice and comment rulemaking).

The commenter also asserted that no person would be prejudiced by extending the reopening of the comment period. FAA disagrees, as keeping the reopened comment period open for an extended period on these limited topics could delay finalizing this rule. This delay would negatively impact other stakeholders, including UAS operators, manufacturers, standards organizations, and providers of supporting third-party services as they rely on the finalization of this rule to build and scale their operations.

Accordingly, FAA declines to grant the extension requests and the reopened comment period will close on February 11, 2026.

Issued under authority provided by 49 U.S.C. 106(f) and 44701, in Washington, DC.
Brandon Roberts,
Executive Director, Office of Rulemaking, Federal Aviation Administration.

[FR Doc. 2026-02649 Filed 2-9-26; 8:45 am]

BILLING CODE 4910-13-P